DEPARTMENT OF ENERGY

Federal Energy Regulatory Commission

[Docket No. RM15-11-000]

Reliability Standard for Transmission System Planned Performance for Geomagnetic Disturbance Events; Notice of Technical Conference

Take notice that the Federal Energy Regulatory Commission (Commission) will hold a Commission staff-led technical conference on Reliability Standard for Transmission System Planned Performance for Geomagnetic Disturbance (GMD) Events on issues identified in the Notice of Proposed Rulemaking (NOPR) and subsequent public comments in the above-captioned docket on March 1, 2016. The conference will begin at 9:00 a.m. and end at approximately 5:00 p.m. (Eastern Time). The conference will be held at the Federal Energy Regulatory Commission, 888 First Street NE., Washington, DC 20426.

The technical conference will facilitate a structured dialogue on GMD-related topics, including but not limited to: (1) The benchmark GMD event(s); (2) vulnerability assessments; and (3) monitoring of related parameters. The technical conference will be led by Commission staff, with prepared remarks to be presented by invited panelists, which must be submitted to the Commission in advance of the conference. A subsequent notice providing an agenda and details on the topics for discussion will be issued in advance of the conference. Commissioners may attend and participate.

There is no fee for attendance. However, members of the public are encouraged to preregister online at: https://www.ferc.gov/whats-new/registration/03-01-16-form.asp.

Those wishing to participate in panel discussions should submit nominations no later than close of business on Wednesday, January 6, 2016 online at: https://www.ferc.gov/whats-new/registration/03-01-16-speaker-form.asp.

This event will be webcast and transcribed. Transcripts of the conference will be available for a fee from Ace-Federal Reporters, Inc. (202-347-3700).

Commission conferences are accessible under section 508 of the Rehabilitation Act of 1973. For accessibility accommodations please send an email to accessibility@ferc.gov or call toll free (866) 208-3372 (voice) or (202) 502-8659 (TTY), or send a fax to (202) 208-2106 with the requested accommodations.

For more information about the technical conference, please contact: Sarah McKinley, Office of External Affairs, 202-502-8368 sarah.mckinley@ferc.gov.

Dated: December 22, 2015.
Nathaniel J. Davis, Sr.,
Deputy Secretary.

[FR Doc. 2015-32699 Filed 12-28-15; 8:45 am]

BILLING CODE 6717-01-P